NUCLEAR REGULATORY COMMISSION

[NRC-2009-0114]

Notice of Issuance of Regulatory Guide

AGENCY: Nuclear Regulatory Commission.

ACTION: Notice of issuance and availability of Regulatory Guide (RG) 10.4, Revision 3.

FOR FURTHER INFORMATION CONTACT: Mark Orr, Regulatory Guide Development Branch, Division of Engineering, Office of Nuclear Regulatory Research, U.S. Nuclear Regulatory Commission, Washington, DC 20555-0001, telephone (301) 251-7495 or e-mail to Mark.Orr@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 3 of RG 10.4, “Guide for the Preparation of Applications for Licenses to Process Source Material,” was issued for public comment with a temporary identification as Draft Regulatory Guide (DG)-0020. RG 10.4 directs the reader to the type of information acceptable to the NRC staff for the review of an application for new licenses, license amendments, and license renewals for the processing and use of source material in such activities as research and development; shielding; manufacturing depleted uranium and thorium-magnesium alloy products; manufacturing glass containing uranium; manufacturing and distributing other products containing source material; or shaping, grinding, and polishing lenses containing thorium. RG 10.4 does not apply to (1) activities related to the reactor fuel cycle such as uranium and thorium mill operation and uranium hexafluoride production or (2) large-scale processing of source material for extraction of metallic compounds such as zirconium or hafnium.

II. Further Information

In September 2008, DG-0020 was published with a public comment period of 60 days from the issuance of the guide. The public comment period closed on November 10, 2008. No comments were received. Electronic copies of RG 10.4, Revision 3 are available through the NRC's public Web site under “Regulatory Guides” at http://www.nrc.gov/reading-rm/doc-collections/.

In addition, regulatory guides are available for inspection at the NRC's Public Document Room (PDR), which is located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 27th day of January 2009.
For the Nuclear Regulatory Commission.
Andrea D. Valentin,
Chief, Regulatory Guide Development Branch, Division of Engineering, Office of Nuclear Regulatory Research.

[FR Doc. E9-5703 Filed 3-16-09; 8:45 am]

BILLING CODE 7590-01-P